ENVIRONMENTAL PROTECTION AGENCY

[FRL-10767-01-OW]

National Drinking Water Advisory Council: Request for Nominations

AGENCY: Environmental Protection Agency (EPA).

ACTION: Notice of request for nominations.

SUMMARY: The U.S. Environmental Protection Agency (EPA) invites nominations of qualified candidates to be considered for three-year appointments to the National Drinking Water Advisory Council (NDWAC or Council). The 15-member Council was established by the Safe Drinking Water Act (SDWA) to provide independent advice, consultation, and recommendations to the EPA Administrator on matters relating to activities, functions, policies, and regulations under the SDWA. This notice solicits nominations to fill anticipated vacancies in 2023 with three-year appointments from December 2023 through December 2026. EPA may also consider nominations received through this solicitation to fill anticipated vacancies in 2024 and in the event of unanticipated vacancies on the Council. To enable EPA to maintain the membership required by statute, the Agency is seeking nominees who are from the general public; appropriate state and local agencies concerned with water hygiene and public water supply; and representatives of private organizations or groups demonstrating an active interest in the field of water hygiene and public water supply, including nominees associated with small, rural public water systems.

DATES: Nominations should be submitted in time to arrive no later than April 12, 2023.

ADDRESSES: Nominations should be sent to NDWAC@epa.gov. If you have concerns about submitting your nomination electronically, you may contact Elizabeth Corr, the Designated Federal Officer (DFO) for the NDWAC, by email at NDWAC@epa.gov, or by phone at (202) 564-3798, to discuss an alternative delivery method.

FOR FURTHER INFORMATION CONTACT: Any member of the public who wants further information concerning the nomination process may contact Elizabeth Corr at NDWAC@epa.gov; or call (202) 564-3798. General information concerning the NDWAC can be found on EPA's website at https://www.epa.gov/ndwac.

SUPPLEMENTARY INFORMATION:

National Drinking Water Advisory Council: The Council was created by Congress on December 16, 1974, as part of the Safe Drinking Water Act of 1974, Public Law 93-523, 42 U.S.C. 300j-5, and is operated in accordance with the provisions of the Federal Advisory Committee Act (FACA), 5 U.S.C. 10. The Council consists of 15 members, including the chairperson, all of whom are appointed by the EPA Administrator. Five members are from the general public; five are from appropriate state and local agencies concerned with water hygiene and public water supply; and five are from representatives of private organizations or groups demonstrating an active interest in the field of water hygiene and public water supply, of which two such members shall be associated with small, rural public water systems. The current list of members is available on EPA's NDWAC website at https://www.epa.gov/ndwac under “NDWAC roster.”

The Council will meet once each year and may hold additional meetings during the year. Meetings are typically one to two days and may be in person or virtual. Members also may be asked to participate in ad hoc working groups to develop policy recommendations, advice letters, and reports that address specific program issues for the Council's consideration.

Member Nominations: Any interested person or organization may nominate qualified individuals to be considered for appointment to the NDWAC. Interested individuals may self-nominate. In accordance with Executive Order 14035 (June 25, 2021) and consistent with law, EPA values and welcomes opportunities to increase diversity, equity, inclusion, and accessibility on its federal advisory committees. EPA's federal advisory committees strive to have a workforce that reflects the diversity of the American people.

All nominations will be fully considered, but nominees need to be aware of the specific membership requirements of the SDWA: Five members from the general public; five members from state and local agencies concerned with water hygiene and public water supply; and five members from representatives of private organizations or groups demonstrating an active interest in the field of water hygiene and public water supply, of which two such members shall be associated with small, rural public water systems. EPA anticipates vacancies over the course of 2023 and 2024 in all of these categories. This notice solicits nominations to fill anticipated vacancies in 2023, including for three new members of whom two will be from the general public and one will be from representatives of private organizations or groups demonstrating an active interest in the field of water hygiene and public water supply. EPA may also consider nominations received through this solicitation to fill anticipated vacancies in 2024, including for two new members of whom one will be from state and local agencies concerned with water hygiene and public water supply and one will be from representatives of private organizations or groups demonstrating an active interest in the field of water hygiene and public water supply associated with small, rural public water systems. EPA may also consider nominations received through this solicitation in the event of unanticipated vacancies on the Council, which may occur in any category. Other criteria used to evaluate nominees will include:

• Demonstrated experience with drinking water issues at the national, state, or local level, which can include experience with drinking water regulations, funding programs, infrastructure operations, and cross-cutting issues such as environmental justice, climate resiliency, capacity development, and public health emergencies as relates to drinking water;

• Demonstrated ability to work constructively on committees and/or in consensus-building processes;

• Availability and willingness to serve a three-year term as an active and contributing member; and

• Background and experience that would help members contribute to the diversity of expertise on the Council—e.g., geographic, economic, social, cultural, educational backgrounds, professional affiliations, and other considerations.

Nominations must include (1) a resume or curriculum vitae, (2) a brief statement (one page or less) describing the nominee's interest in serving on the Council and addressing the criteria previously described, and (3) a short biography describing the qualifications of the nominee. Nominations should include the nominee's name, current business address or other mailing address, email address, and daytime telephone number. The DFO will use the email address provided for the nominee to acknowledge receipt of the nomination. If an email address is not available, the nomination should identify the nominee's preferred alternative means of contact.

NDWAC members receive travel and per diem allowances, where appropriate and in accordance with Federal travel regulations, and receive compensation (if appropriate) for travel and while attending meetings. All NDWAC members serve as Special Government Employees (SGEs). Candidates invited to serve on the NDWAC will be asked to submit the “Confidential Financial Disclosure Form for Environmental Protection Agency Special Government Employees” (EPA Form 3110-48). This confidential form provides information to EPA's ethics officials, to determine whether there is a statutory conflict between a person's public responsibilities as an SGE member and private interests and activities, or the appearance of a loss of impartiality, as defined by federal laws and regulations. The form may be viewed at the link under “Ethics requirements” on EPA's NDWAC website at https://www.epa.gov/ndwac. This form should not be submitted as part of a nomination.

Other sources, in addition to this Federal Register announcement, may also be utilized in the solicitation of nominees. To help EPA evaluate the effectiveness of its outreach efforts, please tell us how you learned of this opportunity.

Jennifer L. McLain,
Director, Office of Ground Water and Drinking Water.

[FR Doc. 2023-05109 Filed 3-10-23; 8:45 am]

BILLING CODE 6560-50-P